DEPARTMENT OF TRANSPORTATION

National Highway Traffic Safety Administration

[Docket No. NHTSA-2016-0035]

Revision of the Emergency Medical Services Agenda for the Future; Request for Information

AGENCY: National Highway Traffic Safety Administration (NHTSA), Department of Transportation (DOT).

ACTION: Notice; request for information.

SUMMARY: NHTSA, on behalf of the Federal Interagency Committee on Emergency Medical Services (FICEMS), is seeking comments from all sources (public, private, governmental, academic, professional, public interest groups, and other interested parties) on the planned revision of the 1996 Emergency Medical Services Agenda for the Future (EMS Agenda).

FICEMS was created (42 U.S.C. 300d-4) by the Secretaries of Transportation, Health and Human Services and Homeland Security to, in part, ensure coordination among the Federal agencies involved with State, local, tribal or regional emergency medical services and 9-1-1 systems. FICEMS has statutory authority to identify State and local Emergency Medical Services (EMS) and 9-1-1 needs, to recommend new or expanded programs and to identify the ways in which Federal agencies can streamline their processes for support of EMS. FICEMS includes representatives from the Department of Defense (DoD) Office of the Assistant Secretary of Defense—Health Affairs, the Department of Health and Human Services (HHS) Office of the Assistant Secretary for Preparedness and Response (ASPR), HHS Indian Health Service (IHS), HHS Centers for Disease Control and Prevention (CDC), HHS Health Resources and Services Administration (HRSA), HHS Centers for Medicare and Medicaid Services (CMS), the Department of Homeland Security (DHS) Office of Health Affairs (OHA), DHS U.S. Fire Administration (USFA), NHTSA, the Federal Communications Commission (FCC) and a State EMS Director appointed by the Secretary of Transportation.

On June 19, 2014, FICEMS unanimously approved a motion to proceed with a revision of the EMS Agenda, with a focus on data-driven approaches to future improvements.

This followed an April 24, 2014 letter in which the National Emergency Medical Services Advisory Council (NEMSAC) issued recommendations to NHTSA regarding revision of the EMS Agenda. NEMSAC's recommendations were as follows:

• A major revision of the EMS Agenda for the Future should be undertaken as soon as possible;

• The revision process should be guided by an external entity (not NEMSAC) that will ensure a consensus- and data-driven process with broad stakeholder representation. The goal should be to replicate the process used to develop the original EMS Agenda for the Future, published in 1996;

• The U.S. Department of Transportation should seek financial support and assistance from members of FICEMS to accomplish this task.

The purpose of this notice is to solicit comments on the planned revision of the EMS Agenda, and to request responses to specific questions provided below. This is neither a request for proposals nor an invitation for bids.

DATES: It is requested that comments on this announcement be submitted by June 30, 2016.

ADDRESSES: You may submit comments [identified by Docket No. NHTSA-2016-0035] through one of the following methods:

• Federal eRulemaking Portal: http://www.regulations.gov. Follow the online instructions for submitting comments.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Gamunu Wijetunge, Office of Emergency Medical Services, (202) 493-2793, gamunu.wijetunge@dot.gov, located at the United States Department of Transportation; 1200 New Jersey Avenue SE., NPD-400, Room W44-232, Washington, DC 20590. Office hours are from 9 a.m. to 5 p.m., Monday through Friday, except Federal holidays.

SUPPLEMENTARY INFORMATION:

Background

In 1996 NHTSA, in partnership with HRSA, published the EMS Agenda (www.ems.gov/pdf/2010/EMSAgendaWeb_7-06-10.pdf). The document created a vision for the future of EMS systems in the United States and led to EMS system improvements across the Nation. Changes envisioned by the EMS Agenda included the National EMS Information System (NEMSIS), the “EMS Education Agenda for the Future: A Systems Approach”, universal wireless 9-1-1, automatic crash notification, the recognition of EMS as a physician sub-specialty, and many others.

The EMS Agenda included the following vision statement: “Emergency medical services (EMS) of the future will be community-based health management that is fully integrated with the overall health care system. It will have the ability to identify and modify illness and injury risks, provide acute illness and injury care and follow-up, and contribute to treatment of chronic conditions and community health monitoring. This new entity will be developed from redistribution of existing health care resources and will be integrated with other health care providers and public health and public safety agencies. It will improve community health and result in more appropriate use of acute health care resources. EMS will remain the public's emergency medical safety net.”

Furthermore, the EMS Agenda proposed development of the following 14 EMS attributes:

• Integration of Health Services;

• EMS Research;

• Legislation and Regulation;

• System Finance;

• Human Resources;

• Medical Direction;

• Education Systems;

• Public Education;

• Prevention;

• Public Access;

• Communication Systems;

• Clinical Care;

• Information Systems;

• Evaluation.

In 2014, NEMSAC recommended that NHTSA undertake a major revision of the EMS Agenda. NHTSA, on behalf of FICEMS, intends to work closely with EMS stakeholders in revising the EMS Agenda. It is anticipated the revised EMS Agenda will envision the evolution of EMS systems over the next 30 years.

Questions on the Proposed Revision of the EMS Agenda

Responses to the following questions are requested to help plan the revision of the EMS Agenda. Please provide references as appropriate.

1. What are the most critical issues facing EMS systems that should be addressed in the revision of the EMS Agenda? Please be as specific as possible.

2. What progress has been made in implementing the EMS Agenda since its publication in 1996?

3. How have you used the EMS Agenda? Please provide specific examples.

4. As an EMS stakeholder, how might the revised EMS Agenda be most useful to you?

5. What significant changes have occurred in EMS systems at the national, State and local levels since 1996?

6. What significant changes will impact EMS systems over the next 30 years?

7. How might the revised EMS Agenda support the following FICEMS Strategic Plan goals:

a. Coordinated, regionalized, and accountable EMS and 9-1-1 systems that provide safe, high-quality care;

b. data-driven and evidence-based EMS systems that promote improved patient care quality;

c. EMS systems fully integrated into State, territorial, local, tribal, regional, and Federal preparedness planning, response, and recovery;

d. EMS systems that are sustainable, forward looking, and integrated with the evolving health care system;

e. an EMS culture in which safety considerations for patients, providers, and the community permeate the full spectrum of activities; and

f. a well-educated and uniformly credentialed EMS workforce.

8. How could the revised EMS Agenda contribute to enhanced emergency medical services for children?

9. How could the revised EMS Agenda address the future of EMS data collection and information sharing?

10. How could the revised EMS Agenda support data-driven and evidence-based improvements in EMS systems?

11. How could the revised EMS Agenda enhance collaboration among EMS systems, health care providers, hospitals, public safety answering points, public health, insurers, palliative care and others?

12. How will innovative patient care delivery and finance models impact EMS systems over the next 30 years?

13. How could the revised EMS Agenda promote community preparedness and resilience?

14. How could the revised EMS Agenda contribute to improved coordination for mass casualty incident preparedness and response?

15. How could the revised EMS Agenda enhance the exchange of evidence based practices between military and civilian medicine?

16. How could the revised EMS Agenda support the seamless and unimpeded transfer of military EMS personnel to roles as civilian EMS providers?

17. How could the revised EMS Agenda support interstate credentialing of EMS personnel?

18. How could the revised EMS Agenda support improved patient outcomes in rural and frontier communities?

19. How could the revised EMS Agenda contribute to improved EMS education systems at the local, State, and national levels?

20. How could the revised EMS Agenda lead to improved EMS systems in tribal communities?

21. How could the revised EMS Agenda promote a culture of safety among EMS personnel, agencies and organizations?

22. Are there additional EMS attributes that should be included in the revised EMS Agenda? If so, please provide an explanation for why these additional EMS attributes should be included.

23. Are there EMS attributes in the EMS Agenda that should be eliminated from the revised edition? If so, please provide an explanation for why these EMS attributes should be eliminated.

24. What are your suggestions for the process that should be used in revising the EMS Agenda?

25. What specific agencies/organizations/entities are essential to involve, in a revision of the EMS Agenda?

26. Do you have any additional comments regarding the revision of the EMS Agenda?

Issued on: March 22, 2016.
Jeffrey P. Michael,
Associate Administrator, Research and Program Development.

[FR Doc. 2016-06960 Filed 3-31-16; 8:45 am]

BILLING CODE 4910-59-P